DEPARTMENT OF TRANSPORTATION

Federal Aviation Administration

14 CFR Part 39

[Docket No. FAA-2013-0548; Directorate Identifier 2013-NM-008-AD; Amendment 39-18002; AD 2014-21-08]

RIN 2120-AA64

Airworthiness Directives; Bombardier, Inc. Airplanes

AGENCY: Federal Aviation Administration (FAA), Department of Transportation (DOT).

ACTION: Final rule.

SUMMARY: We are adopting a new airworthiness directive (AD) for certain Bombardier, Inc. Model BD-700-1A11 airplanes. This AD was prompted by a report that certain lanyards for the passenger oxygen masks are longer than the specified length, possibly leading to inactive oxygen masks in an emergency. This AD requires replacement of certain oxygen mask lanyards. We are issuing this AD to detect and correct lanyards of incorrect length, which might not activate the flow of oxygen in an emergency, resulting in injury to passengers.

DATES: This AD becomes effective December 2, 2014.

The Director of the Federal Register approved the incorporation by reference of a certain publication listed in this AD as of December 2, 2014.

ADDRESSES: You may examine the AD docket on the Internet at http://www.regulations.gov/#!docketDetail;D=FAA-2013-0548 or in person at the Docket Management Facility, U.S. Department of Transportation, Docket Operations, M-30, West Building Ground Floor, Room W12-140, 1200 New Jersey Avenue SE., Washington, DC.

For service information identified in this AD, contact Bombardier, Inc., 400 Côte-Vertu Road West, Dorval, Québec H4S 1Y9, Canada; telephone 514-855-5000; fax 514-855-7401; email thd.crj@aero.bombardier.com; Internet http://www.bombardier.com. You may view this referenced service information at the FAA, Transport Airplane Directorate, 1601 Lind Avenue SW., Renton, WA. For information on the availability of this material at the FAA, call 425-227-1221.

FOR FURTHER INFORMATION CONTACT: Cesar Gomez, Aerospace Engineer, Airframe and Mechanical Systems Branch, ANE-171, FAA, New York Aircraft Certification Office, 1600 Stewart Avenue, Suite 410, Westbury, NY 11590; telephone 516-228-7318; fax 516-794-5531.

SUPPLEMENTARY INFORMATION:

Discussion

We issued a supplemental notice of proposed rulemaking (SNPRM) to amend 14 CFR part 39 by adding an AD that would apply to certain Bombardier, Inc. Model BD-700-1A11 airplanes. The SNPRM published in the Federal Register on July 23, 2014 (79 FR 42708). We preceded the SNPRM with a notice of proposed rulemaking (NPRM) that published in the Federal Register on July 18, 2013 (78 FR 42893).

Transport Canada Civil Aviation (TCCA), which is the aviation authority for Canada, has issued Canadian Airworthiness Directive CF-2012-31R1, dated September 17, 2013 (referred to after this as the Mandatory Continuing Airworthiness Information, or “the MCAI”), to correct an unsafe condition for certain Bombardier, Inc. Model BD-700-1A11 airplanes. The MCAI states:

The aeroplane manufacturer has determined that the Oxygen Dispensing Unit (ODU) lanyards, in several locations throughout the aeroplane cabin, are excessively long. In an emergency situation where oxygen is required, it is possible that certain occupants may put their oxygen mask on without automatically activating the oxygen flow which could result in a fatal injury.

The original issue of this [Canadian] AD mandated the replacement of the existing ODU lanyards with lanyards of the correct length.

After the issuance of the original [Canadian] AD, the aeroplane manufacturer discovered that operators had not replaced all of the affected ODU lanyards due to misinterpretation of the accomplishment instructions of the Basic Issue of SB 700-1A11-35-009. Revision 1 of this [Canadian] AD is issued to mandate the incorporation of the revised SB with clarified accomplishment instructions.

You may examine the MCAI in the AD docket on the Internet at http://www.regulations.gov/#!documentDetail;D=FAA-2013-0548-0004.

Comments

We gave the public the opportunity to participate in developing this AD. We received no comments on the SNPRM (79 FR 42708, July 23, 2014) or on the determination of the cost to the public.

Conclusion

We reviewed the relevant data and determined that air safety and the public interest require adopting this AD as proposed except for minor editorial changes. We have determined that these minor changes:

• Are consistent with the intent that was proposed in the SNPRM (79 FR 42708, July 23, 2014) for correcting the unsafe condition; and

• Do not add any additional burden upon the public than was already proposed in the SNPRM (79 FR 42708, July 23, 2014).

Costs of Compliance

We estimate that this AD affects 22 airplanes of U.S. registry.

We also estimate that it will take about 16 work-hours per product to comply with the basic requirements of this AD. The average labor rate is $85 per work-hour. Required parts will cost about $0 per product. Based on these figures, we estimate the cost of this AD on U.S. operators to be $29,920, or $1,360 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2013-0548; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-21-08 Bombardier, Inc.: Amendment 39-18002. Docket No. FAA-2013-0548; Directorate Identifier 2013-NM-008-AD.

(a) Effective Date

This AD becomes effective December 2, 2014.

(b) Affected ADs

None.

(c) Applicability

This AD applies to Bombardier, Inc. Model BD-700-1A11 airplanes, certificated in any category, modified by FAA Supplemental Type Certificate (STC) ST02140NY, issued October 14, 2005 (http://rgl.faa.gov/Regulatory_and_Guidance_Library/rgstc.nsf/0/6B8CF26D01F5E6DE862570C7006DCD7E?OpenDocument&Highlight= st02140ny); and to airplanes, certificated in any category, modified by FAA STC ST02033NY, issued December 2, 2004 (http://rgl.faa.gov/Regulatory_and_Guidance_Library/rgstc.nsf/0/99FF781E0BD20AD886256FA300558250?OpenDocument&Highlight=02033).

(d) Subject

Air Transport Association (ATA) of America Code 35, Oxygen.

(e) Reason

This AD was prompted by a report that certain lanyards for the passenger oxygen masks are longer than the specified length, possibly leading to inactive oxygen masks in an emergency. We are issuing this AD to detect and correct lanyards of incorrect length, which might not activate the flow of oxygen in an emergency, resulting in injury to passengers.

(f) Compliance

Comply with this AD within the compliance times specified, unless already done.

(g) Replacement

Within 750 flight hours or 15 months after the effective date of this AD, whichever occurs first: Replace lanyards having part numbers (P/N) B431564-503 and -505 for all passenger oxygen dispensing units, with lanyards having P/N B431564-507, in accordance with the Accomplishment Instructions of Bombardier Service Bulletin 700-1A11-35-009, Revision 02, dated May 28, 2013.

(h) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, NY 11590; telephone 516-228-7300; fax 516-794-5531. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, New York ACO, ANE-170, Engine and Propeller Directorate, FAA; or Transport Canada Civil Aviation (TCCA); or Bombardier, Inc.'s TCCA Design Approval Organization (DAO). If approved by the DAO, the approval must include the DAO-authorized signature.

(i) Related Information

Refer to Mandatory Continuing Airworthiness Information (MCAI) Canadian Airworthiness Directive CF-2012-31R1, dated September 17, 2013, for related information. This MCAI may be found in the AD docket on the Internet at http://www.regulations.gov/#!documentDetail;D=FAA-2013-0548-0004.

(j) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Bombardier Service Bulletin 700-1A11-35-009, Revision 02, dated May 28, 2013.

(ii) Reserved.

(3) For service information identified in this AD, contact Bombardier, Inc., 400 Côte-Vertu Road West, Dorval, Québec H4S 1Y9, Canada; telephone 514-855-5000; fax 514-855-7401; email thd.crj@aero.bombardier.com; Internet http://www.bombardier.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on October 13, 2014.
Michael Kaszycki,
Acting Manager, Transport Airplane Directorate, Aircraft Certification Service.

[FR Doc. 2014-25101 Filed 10-27-14; 8:45 am]

BILLING CODE 4910-13-P